DEPARTMENT OF JUSTICE

Notice of Lodging of Consent Decree Under the Comprehensive Environmental Response, Compensation, and Liability Act (CERCLA)

Notice is hereby given that on July 14, 2010, a proposed Consent Decree in the case of United States v. Blue Tee Corp., Civil Action No. 06-05128-DW, with Defendant Blue Tee Corp. was lodged with the United States District Court for the Western District of Missouri.

The United States filed a complaint in December 2006 alleging that Blue Tee Corp. is liable pursuant to Sections 106 and 107 of CERCLA in connection with the Granby Subdistrict of the Newton County Mine Tailings Superfund Site in Missouri. The Court entered a Consent Decree between the United States and Blue Tee Corp. in February 2007 that required Blue Tee Corp. to pay past response costs of $198,645.11 to EPA and perform a drinking water removal action for the entire Granby Subdistrict. Blue Tee Corp. paid the past costs and has been performing the removal action. This proposed Consent Decree requires Blue Tee Corp. to pay $600,000 to EPA instead of performing the removal action for the Evergreen Park Subdivision portion of the Granby Subdistrict. Blue Tee Corp. is required to continue the removal action for the rest of the Granby Subdistrict. The 2007 Consent Decree will be terminated upon entry of the proposed Consent Decree.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Blue Tee Corp., D.J. Ref. No. 90-11-2-07088/1.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $15.75 (25 cents per page reproduction cost) payable to the United States Treasury or, if by e-mail or fax, forward a check in that amount to the Consent Decree Library at the stated address.

Maureen Katz,
Assistant Chief, Environmental Enforcement Section, Environment and Natural Resources Division.

[FR Doc. 2010-17750 Filed 7-20-10; 8:45 am]

BILLING CODE 4410-15-P